DEPARTMENT OF HOMELAND SECURITY

Federal Emergency Management Agency

[FEMA-3279-EM]

California; Amendment No. 1 to Notice of an Emergency Declaration

AGENCY: Federal Emergency Management Agency, DHS.

ACTION: Notice.

SUMMARY: This notice amends the notice of an emergency declaration for the State of California (FEMA-3279-EM), dated October 23, 2007, and related determinations.

DATES: Effective Date: October 24, 2007.

FOR FURTHER INFORMATION CONTACT: Peggy Miller, Disaster Assistance Directorate, Federal Emergency Management Agency, Washington, DC 20472, (202) 646-2705.

SUPPLEMENTARY INFORMATION: The notice of an emergency declaration for the State of California is hereby amended to include Individual Assistance, limited to the Individuals and Households Program under section 408 of the Stafford Act, 42 U.S.C. 5174 for the following areas among those areas determined to have been adversely affected by the catastrophe declared an emergency by the President in his declaration of October 23, 2007.

The counties of Los Angeles, Orange, Riverside, San Bernardino, San Diego, Santa Barbara, and Ventura for Individual Assistance, limited to the Individuals and Households Program under section 408 of the Stafford Act, 42 U.S.C. 5174, (already designated for emergency protective measures [Category B], including direct Federal assistance, under the Public Assistance program.)

(The following Catalog of Federal Domestic Assistance Numbers (CFDA) are to be used for reporting and drawing funds: 97.030, Community Disaster Loans; 97.031, Cora Brown Fund Program; 97.032, Crisis Counseling; 97.033, Disaster Legal Services Program; 97.034, Disaster Unemployment Assistance (DUA); 97.046, Fire Management Assistance; 97.048, Individuals and Households Housing; 97.049, Individuals and Households Disaster Housing Operations; 97.050, Individuals and Households Program—Other Needs; 97.036, Public Assistance Grants; 97.039, Hazard Mitigation Grant Program.)

R. David Paulison,
Administrator, Federal Emergency Management Agency.

[FR Doc. E7-21536 Filed 10-31-07; 8:45 am]

BILLING CODE 9110-10-P